DEPARTMENT OF ENERGY

Federal Energy Regulatory Commission

Combined Notice of Filings #2

Take notice that the Commission received the following electric rate filings:

Docket Numbers: ER10-2805-004; ER10-2564-005; ER10-2600-005; ER10-2289-005; EL15-42-000.

Applicants: FortisUS Energy Corporation, Central Hudson Gas & Electric Corp., Tucson Electric Power Company, UNS Electric, Inc., UniSource Energy Development Company.

Description: Response to November 16, 2015 letter requesting additional information of the Fortis MBR Sellers.

Filed Date: 2/1/16.

Accession Number: 20160201-5587.

Comments Due: 5 p.m. ET 2/22/16.

Docket Numbers: ER16-877-000

Applicants: Midcontinent Independent System Operator, Inc.

Description: § 205(d) Rate Filing: 2016-02-03_SA 2894 Ameren-Gibson City GIA (J339) to be effective 2/4/2016.

Filed Date: 2/3/16..

Accession Number: 20160203-5126.

Comments Due: 5 p.m. ET 2/24/16.

Docket Numbers: ER16-878-000.

Applicants: NSTAR Electric Company.

Description: § 205(d) Rate Filing: CostSharing Agreement w/NGrid for Greater Boston Area Transmission Solution Plan to be effective 4/4/2016.

Filed Date: 2/3/16.

Accession Number: 20160203-5167

Comments Due: 5 p.m. ET 2/24/16.

Docket Numbers: ER16-879-000.

Applicants: Public Service Company of New Hampshire.

Description: § 205(d) Rate Filing: CostSharing Agreement w/NGrid for Greater Boston Area Transmission Solution Plan to be effective 4/4/2016.

Filed Date: 2/3/16.

Accession Number: 20160203-5168.

Comments Due: 5 p.m. ET 2/24/16.

Docket Numbers: ER16-880-000.

Applicants: Wisconsin Electric Power Company.

Description: § 205(d) Rate Filing: Wisconsin Electric—ATC Amended CFA Rate Schedule 135 to be effective 4/3/2016.

Filed Date: 2/3/16.

Accession Number: 20160203-5184.

Comments Due: 5 p.m. ET 2/24/16.

Docket Numbers: ER16-881-000.

Applicants: Sierra Pacific Power Company.

Description: § 205(d) Rate Filing: Rate Schedule No. 55 SPPC & Liberty 2nd Amndmt Service Agr. to be effective 1/1/2016.

Filed Date: 2/3/16.

Accession Number: 20160203-5218.

Comments Due: 5 p.m. ET 2/24/16.

Docket Numbers: ER16-882-000.

Applicants: New England Power Company.

Description: § 205(d) Rate Filing: NEP Cost Sharing Agreement—Greater Boston Area Transmission Solution Plan to be effective 4/4/2016.

Filed Date: 2/3/16.

Accession Number: 20160203-5219.

Comments Due: 5 p.m. ET 2/24/16.

Take notice that the Commission received the following open access transmission tariff filings:

Docket Numbers: OA16-1-000.

Applicants: Arizona Public Service Company.

Description: Arizona Public Service Company submits Notice of Late System Impact Studies pursuant to Order 890 and 890-A.

Filed Date: 2/1/16.

Accession Number: 20160201-5629

Comments Due: 5 p.m. ET 2/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2016.
Nathaniel J. Davis, Sr.,
Deputy Secretary.

[FR Doc. 2016-02494 Filed 2-8-16; 8:45 am]

BILLING CODE 6717-01-P